NUCLEAR REGULATORY COMMISSION

[Docket No. 70-7001; NRC-2013-0099]

United States Enrichment Corporation, Paducah Gaseous Diffusion Plant

AGENCY: Nuclear Regulatory Commission.

ACTION: Notice of permanent cessation of uranium enrichment activities and suspension of staff review.

SUMMARY: On April 2, 2013, the United States Enrichment Corporation (USEC) filed an application with the U.S. Nuclear Regulatory Commission (NRC) for the renewal of its Certificate of Compliance (CoC) for the Paducah Gaseous Diffusion Plant (PGDP). The current CoC for PGDP is set to expire on December 31, 2013. The NRC staff found USEC's renewal application acceptable for docketing and published a notice in the Federal Register acknowledging the receipt of the application and providing an opportunity for public comment. On June 3, 2013, USEC notified the NRC of its decision to permanently cease uranium enrichment activities at the PGDP. USEC stated that in 2014, it will return the PGDP facilities to the U.S. Department of Energy (DOE), and that it would request termination of its CoC in 2014. For these reasons, the NRC staff hereby gives notice that its review of USEC's pending renewal application has been suspended. Because the April 2, 2013, application was filed in the required timeframe, in accordance with the NRC's timely renewal regulations, the existing CoC will remain effective until there is a final NRC determination on the renewal application.

ADDRESSES: Please refer to Docket ID NRC-2013-0099 when contacting the NRC about the availability of information regarding this document. You may access publicly-available information related to this action by the following methods:

• Federal Rulemaking Web site: Go to http://www.regulations.gov and search for Docket ID NRC-2013-0099. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Copies of USEC's Certificate renewal request (except for classified and proprietary portions which are withheld in accordance with section 2.390 of Title 10 of the Code of Federal Regulations (10 CFR), “Availability of Public Records”) and the June 3, 2013, letter are available in ADAMS under Accession Nos. ML13105A010 and ML13176A151, respectively.

• NRC's PDR: You may examine and purchase copies of public documents at the NRC's PDR, Room O1-F21, One White Flint North, 11555 Rockville Pike, Rockville, Maryland 20852.

FOR FURTHER INFORMATION CONTACT: Osiris Siurano-Perez, Office of Nuclear Material Safety and Safeguards, U.S. Nuclear Regulatory Commission, Washington, DC 20555-0001; telephone: 301-287-9070; email: Osiris.Siurano-Perez@nrc.gov.

SUPPLEMENTARY INFORMATION:

I. Background

The NRC issued the initial CoC for PGDP on November 26, 1996, authorizing USEC's operation of a uranium enrichment facility in Paducah, Kentucky, using the gaseous diffusion process. PGDP was last issued a renewed CoC on December 31, 2008, with an expiration date of December 31, 2013.

By letter dated April 2, 2013 (GDP 13-0010, ADAMS Accession No. ML13105A010), USEC submitted its renewal application in accordance with 10 CFR part 76. In its application, USEC requested that the NRC renew the CoC for a 5-year period with an expiration date of December 31, 2018.

On May 22, 2013 (78 FR 30342), the NRC published in the Federal Register a notice of the Certificate renewal request and opportunity to comment. The notice stated that a public meeting would be conducted in the vicinity of the PGDP in July of 2013, in accordance with 10 CFR 76.39. An NRC administrative review, documented in an electronic communication to USEC dated May 31, 2013 (ADAMS Accession No. ML13151A356), found the application sufficient to begin a technical review, in accordance with 10 CFR 76.36.

II. Discussion

In a letter dated June 3, 2013, in accordance with 10 CFR 76.66(b), USEC notified the NRC of its decision to terminate its uranium enrichment operations at the PGDP. USEC stated that it plans to continue managing its inventory of NRC-regulated material, and conduct clean-up related activities under its existing CoC, before returning the PGDP facilities to DOE in 2014. Once USEC has completed these activities, it will request termination of the CoC.

In accordance with 10 CFR 76.55, if a sufficient application for a CoC is timely filed, the existing CoC does not expire until a final determination on the application is made by the NRC. As stated above, USEC's renewal application was found to be sufficient to begin a technical review, and it was timely because it was filed prior to April 15, 2013, as required by 10 CFR 76.31. Therefore, the existing CoC may remain in force after its December 31, 2013, expiration date, until the NRC makes a final determination on the renewal application. Based on USEC's decision to terminate its uranium enrichment operations at PGDP, the NRC's Office of Nuclear Materials Safety and Safeguards has suspended its review of USEC's April 2, 2013, renewal application. As a result, the NRC will not meet the 10 CFR 76.43 requirement that final NRC decisions on renewal applications be made within 6 months of receipt, and is therefore publishing this notice in accordance with 10 CFR 76.43. The NRC will establish a date for making its renewal decision if USEC changes the termination plans described in its June 3, 2013, letter.

USEC's activities at the PGDP will continue to be governed by the existing CoC until its termination, and the NRC will continue monitoring USEC's security and control of nuclear material, decontamination, decommissioning, and waste disposal.

Once the NRC receives USEC's request for CoC termination, the NRC will start the decertification process and coordinate with USEC and DOE to ensure that an appropriate transition of regulatory authority from the NRC to the DOE occurs. Upon the CoC's termination, DOE will assume responsibility and regulatory authority of the PGDP facility.

The NRC intends to conduct a public meeting as part of the PGDP decertification process to allow USEC, DOE, relevant stakeholders, and members of the public to ask questions about the NRC process for terminating the CoC at the PGDP. A notice of this meeting will be posted on the NRC's Web site, http://www.nrc.gov/public-involve/public-meetings/index.cfm.

Dated at Rockville, Maryland, this 22 day of October, 2013.
For the U.S. Nuclear Regulatory Commission.
Catherine Haney,
Director, Office of Nuclear Material Safety and Safeguards.

[FR Doc. 2013-25966 Filed 10-30-13; 8:45 am]

BILLING CODE 7590-01-P